DEPARTMENT OF ENERGY

Federal Energy Regulatory Commission

Combined Notice of Filings #2

Take notice that the Commission received the following electric rate filings:

Docket Numbers: ER13-1340-000.

Applicants: Midwest Independent Transmission System Operator, Inc.

Description: 2013-04-25 Schedule 2 LBA References to be effective 8/1/2013.

Filed Date: 4/25/13.

Accession Number: 20130425-5135.

Comments Due: 5 p.m. ET 5/16/13.

Docket Numbers: ER13-1342-000.

Applicants: Central Hudson Gas & Electric Corporation.

Description: Amendment to Interconnection Agreement No. 260 to be effective 4/25/2013.

Filed Date: 4/25/13.

Accession Number: 20130425-5148.

Comments Due: 5 p.m. ET 5/16/13.

Docket Numbers: ER13-1343-000.

Applicants: EDF Trading North America, LLC.

Description: Revised MBR Tariff to be effective 4/26/2013.

Filed Date: 4/25/13.

Accession Number: 20130425-5151.

Comments Due: 5 p.m. ET 5/16/13.

Docket Numbers: ER13-1344-000.

Applicants: EDF Industrial Power Services (NY), LLC.

Description: Revised Rate Schedule to be effective 4/26/2013.

Filed Date: 4/25/13.

Accession Number: 20130425-5153.

Comments Due: 5 p.m. ET 5/16/13.

Docket Numbers: ER13-1345-000.

Applicants: EDF Industrial Power Services (IL), LLC.

Description: Revised Rate Schedule to be effective 4/26/2013.

Filed Date: 4/25/13.

Accession Number: 20130425-5156.

Comments Due: 5 p.m. ET 5/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2013.
Nathaniel J. Davis, Sr.,
Deputy Secretary.

[FR Doc. 2013-10468 Filed 5-2-13; 8:45 am]

BILLING CODE 6717-01-P